DEPARTMENT OF COMMERCE

International Trade Administration

[A-570-909]

Certain Steel Nails From the People's Republic of China: Extension of Time Limit for the Preliminary Results of the Third Antidumping Duty Administrative Review

AGENCY: Import Administration, International Trade Administration, Department of Commerce.

DATES: Effective Date: March 30, 2012.

FOR FURTHER INFORMATION CONTACT: Jamie Blair-Walker, Office 9, AD/CVD Operations, Import Administration, International Trade Administration, U.S. Department of Commerce, 14th Street and Constitution Avenue NW., Washington, DC 20230; telephone: (202) 482-2615.

Background

On August 1, 2011, the Department of Commerce (“the Department”) published in the Federal Register a notice of opportunity to request an administrative review of the antidumping order on certain steel nails from the People's Republic of China (“PRC”) for the period of review August 1, 2010, through July 31, 2011.¹ Based upon requests for review from various parties, on October 3, 2011, the Department initiated the third antidumping duty administrative review on certain steel nails from the PRC, covering 383 companies.² The preliminary results of review are currently due May 2, 2012.

¹ See Antidumping or Countervailing Duty Order, Finding, or Suspended Investigation; Opportunity To Request Administrative Review, 76 FR 45773 (August 1, 2011).

² See Initiation of Antidumping and Countervailing Duty Administrative Reviews and Requests for Revocations in Part, 76 FR 61076 (October 3, 2011) (“Initiation Notice”).

Statutory Time Limits

Section 751(a)(3)(A) of the Tariff Act of 1930, as amended (“Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

We determine that it is not practicable to complete the preliminary results of this review within the current time limits. The Department requires additional time to analyze recently submitted supplemental questionnaire responses, which contained a significant amount of new sales and factors of production data. The additional time is needed to consider these data and their incorporation into the margin calculations for the individually-reviewed respondents. Additionally, at parties' request, the Department extended the deadline for submitting surrogate country and surrogate value data and comments. Therefore, the Department is hereby fully extending the time limits for completion of the preliminary results by 120 days. The preliminary results will now be due no later than August 30, 2012. The final results continue to be due 120 days after the publication of the preliminary results.

This notice is published in accordance with section 777(i)(1) of the Act.

Dated: March 26, 2012.
Gary Taverman,
Acting Deputy Assistant Secretary for Antidumping and Countervailing Duty Operations.

[FR Doc. 2012-7743 Filed 3-29-12; 8:45 am]

BILLING CODE 3510-DS-P